DEPARTMENT OF DEFENSE

Office of the Secretary

[Docket ID: DoD-2020-OS-0004]

Privacy Act of 1974; System of Records

AGENCY: National Geospatial-Intelligence Agency (NGA), Department of Defense (DoD).

ACTION: Rescindment of a System of Records notice.

SUMMARY: The NGA deactivated a System of Records, National Geospatial-Intelligence Agency Maritime Safety Office Metrics Database, NGA-005. This System of Records collected, used, maintained, and disseminated information to account for employees' daily time spent on tasks to provide performance measurements to senior leadership. This system was decommissioned in 2013 and all files were destroyed.

DATES: This System of Records rescindment is effective upon publication. This system was decommissioned on September 15, 2013.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: In Fiscal Year 2013, NGA Source Operations Directorate, Maritime Safety Office discontinued using this system to collect, use, maintain, and disseminate information to account for employees' daily time spent on each activity to provide performance measurements to senior leadership. The NGA Source Operations Directorate, Maritime Safety Office leadership discontinued collecting this information and destroyed all files in accordance with the policies and practices for retention and disposal of records as stated in the System of Records Notice in 2012.

The DoD notices for Systems of Records subject to the Privacy Act of 1974 (5 U.S.C. 552a), as amended, have been published in the Federal Register and are available from the address in FOR FURTHER INFORMATION CONTACT section or at the Defense Privacy, Civil Liberties and Transparency Division website at https://dpcld.defense.gov.

The proposed system reports, as required by the Privacy Act of 1974, as amended, were submitted on November 14, 2019 to the House Committee on Oversight and Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

SYSTEM NAME AND NUMBER:

National Geospatial-Intelligence Agency Maritime Safety Office Metrics Database, NGA-005.

HISTORY:

June 20, 2012, 77 FR 37004.

Dated: January 10, 2020.
Aaron T. Siegel,
Alternate OSD Federal Register Liaison Officer, Department of Defense.

[FR Doc. 2020-00567 Filed 1-15-20; 8:45 am]

BILLING CODE 5001-06-P